NUCLEAR REGULATORY COMMISSION

[Docket Nos. 50-247 and 50-286; NRC-2008-0672]

Entergy Nuclear Operations, Inc.; Indian Point Nuclear Generating Unit Nos. 2 and 3

AGENCY: Nuclear Regulatory Commission.

ACTION: Final Supplemental Environmental Impact Statement; issuance.

SUMMARY: The U.S. Nuclear Regulatory Commission (NRC) is issuing Volume 5 of the plant-specific Final Supplemental Environmental Impact Statement (FSEIS), Supplement 38 to NUREG-1437, “Generic Environmental Impact Statement for License Renewal of Nuclear Plants” (GEIS), regarding the renewal of the Entergy Nuclear Operations, Inc., operating licenses DPR-26 and DPR-64 (Docket Nos. 50-247 and 50-286) for extended plant operation for Indian Point Nuclear Generating Unit Nos. 2 and 3 (IP2 and IP3).

This volume of the FSEIS was issued as part of the NRC staff's review of Entergy Nuclear Operations, Inc.'s request for extended plant operation beyond the initial period of 40 years.

This volume incorporates new information that the NRC staff has obtained since the publication of Volume 4 of the FSEIS in June 2013.

DATES: Volume 5 of the Final Supplemental Environmental Impact Statement referenced in this document became effective on April 20, 2018.

ADDRESSES: Please refer to Docket ID NRC-2008-0672 when contacting the NRC about the availability of information regarding this document. You may obtain publicly-available information related to this document using any of the following methods:

• Federal Rulemaking website: Go to http://www.regulations.gov and search for Docket ID NRC-2008-0672. Address questions about NRC dockets to Jennifer Borges; telephone: 301-287-9127; email: Jennifer.Borges@nrc.gov. For technical questions, contact the individual listed in the FOR FURTHER INFORMATION CONTACT section of this document.

• NRC's Agencywide Documents Access and Management System (ADAMS): You may obtain publicly-available documents online in the ADAMS Public Documents collection at http://www.nrc.gov/reading-rm/adams.html. To begin the search, select “ADAMS Public Documents” and then select “Begin Web-based ADAMS Search.” For problems with ADAMS, please contact the NRC's Public Document Room (PDR) reference staff at 1-800-397-4209, 301-415-4737, or by email to pdr.resource@nrc.gov. Supplement 38 to the GEIS and its supplements are available under ADAMS Accession Nos. ML103350405, ML103350438, ML103360209, ML103360212, ML103350442, ML13162A616, and ML18107A759, respectively.

• NRC's PDR: You may examine and purchase copies of public documents at the NRC's PDR, Room O1-F21, One White Flint North, 11555 Rockville Pike, Rockville, Maryland 20852.

• Local Libraries: The following local libraries have agreed to make the final supplement available for public inspection:

— White Plains Public Library, 100 Martine Ave. White Plains, NY 10601

— Field Library, 4 Nelson Ave. Peekskill, NY 10566

— Hendrick Hudson Free Library, 185 Kings Ferry Rd, Montrose, NY 10548

FOR FURTHER INFORMATION CONTACT: Mr. William Burton, Office of Nuclear Reactor Regulation, U.S. Nuclear Regulatory Commission, Washington, DC 20555-0001; telephone: 301-415-6332, email: William.Burton@nrc.gov.

SUPPLEMENTARY INFORMATION:

I. Discussion

The NRC received an application, dated April 23, 2007, from Entergy Nuclear Operations, Inc., (Entergy), filed pursuant to Section 103 of the Atomic Energy Act of 1954, as amended, and part 54 of title 10 of the Code of Federal Regulations, (10 CFR part 54), to renew, the operating licenses for IP2 and IP3. The IP2 and IP3 site is located along the Hudson River, approximately 24 miles north of New York, NY. Renewal of the licenses would authorize the applicant to operate the facilities beyond the initial 40-year period specified in the current operating licenses. Possible alternatives to the proposed action (license renewal) include no action and reasonable alternative energy sources.

The NRC issued a plant-specific Final Supplemental Environmental Impact Statement (FSEIS) as a supplement to the Generic Environmental Impact Statement for License Renewal of Nuclear Plants (GEIS), NUREG-1437, regarding the renewal of Facility Operating License Nos. DPR-26 and DPR-64 for Indian Point Nuclear Generating Unit Nos. 2 and 3 (IP2 and IP3).

As discussed in Section 8.2 of the FSEIS, the NRC staff determined that the adverse environmental impacts of license renewal for IP2 and IP3 are not so great that preserving the option of license renewal for energy-planning decisionmakers would be unreasonable. This recommendation is based on: (1) The analysis and findings in the GEIS; (2) information provided in the environmental report and other documents submitted by Entergy Nuclear Operations, Inc.; (3) consultation with Federal, State, local, and tribal agencies; (4) the NRC staff's independent review; and (5) NRC staff's consideration of public comments received during the scoping process and on the draft Supplemental Environmental Impact Statement.

II. Matters Addressed in Supplement 2 to the FSEIS

This supplement includes the NRC staff's evaluation of revised engineering project cost information for severe accident mitigation alternatives (SAMAs), a summary of the results of additional sensitivity analyses to address uncertainties in the SAMA cost-benefit conclusions as directed by the Commission, newly available aquatic impact information, and the additional environmental issues associated with license renewal resulting from the June 2013, revision to Table B-1 in Appendix B to Subpart A of 10 CFR part 51 and NUREG-1437. This supplement also incorporates the impact determinations of NUREG-2157, “Generic Environmental Impact Statement for Continued Storage of Spent Nuclear Fuel,” in accordance with the requirements in 10 CFR 51.23(b). Additionally, this supplement describes the reinitiation of consultation under Section 7 of the Endangered Species Act of 1973, as amended (ESA), regarding the northern long-eared bat, the initiation of a conference under Section 7 of the ESA for proposed critical habitat of the Atlantic sturgeon, the staff's November 2017, request for the National Marine Fisheries Service to amend the 2013 biological opinion's Incidental Take Statement, and to provide its concurrence with staff's effect determination with respect to the final designated Atlantic Sturgeon critical habitat. The supplement also provides an update on the status of the operating licenses for IP2 and IP3. In addition, this supplement reflects the closure agreement signed in January 2017, by the parties to legal proceedings related to the renewal of the operating licenses for IP2 and IP3. The closure agreement, among other things, resolves all litigation concerning license renewal and calls for an early shut down of IP2 and IP3.

Dated at Rockville, Maryland, this 16th day of May, 2018.
For the Nuclear Regulatory Commission.
Eric R. Oesterle,
Chief, License Renewal Project Branch, Division of Materials and License Renewal, Office of Nuclear Reactor Regulation.

[FR Doc. 2018-10831 Filed 5-21-18; 8:45 am]

BILLING CODE 7590-01-P